SECURITIES AND EXCHANGE COMMISSION

[Release No. IC-27195]

Notice of Applications for Deregistration Under Section 8(f) of the Investment Company Act of 1940

December 21, 2005.

The following is a notice of applications for deregistration under section 8(f) of the Investment Company Act of 1940 for the month of December, 2005. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on January 17, 2006, and should be accompanied by proof of service on the applicant, in the form of an affidavit or, for lawyers, a certificate of service. Hearing requests should state the nature of the writer's interest, the reason for the request and the issues contested. Persons who wish to be notified of a hearing may request notification by writing to the Secretary, U.S. Securities and Exchange Commission, 100 F Street, NE., Washington, DC 20549-9303. For Further Information Contact: Diane L. Titus at (202) 551-6810, SEC, Division of Investment Management, Office of Investment Company Regulation, 100 F Street, NE., Washington, DC 20549-0504.

Amerindo Funds Inc.

[File No. 811-7531]

Summary: Applicant seeks an order declaring that it has ceased to be an investment company. On October 24, 2005, applicant transferred its assets to Munder Internet Fund, a series of Munder Series Trust, based on net asset value. Expenses of $133,000 incurred in connection with the reorganization were paid by applicant and Munder Capital Management, applicant's investment adviser.

Filing Dates: The application was filed on November 23, 2005, and amended on December 14, 2005.

Applicant's Address: 599 Lexington Ave., New York, NY 10022.

Scudder Floating Rate Fund

[File No. 811-9269]

Summary: Applicant, a closed-end investment company, seeks an order declaring that it has ceased to be an investment company. On December 20, 2002, applicant made a liquidating distribution to its shareholders, based on net asset value. Expenses of $146,339 incurred in connection with the liquidation were paid by Deutsche Investment Management Americas, Inc., applicant's investment adviser.

Filing Date: The application was filed on November 29, 2005.

Applicant's Address: 222 South Riverside Plaza, Chicago, IL 60606.

Scudder International Research Fund, Inc.

[File No. 811-8395]

Summary: Applicant seeks an order declaring that it has ceased to be an investment company. On May 17, 2002, applicant made a liquidating distribution to its shareholders, based on net asset value. Expenses of $7,055 incurred in connection with the liquidation were pay by Deutsche Investment Management Americas, Inc., applicant's investment adviser.

Filing Date: The application was filed on November 29, 2005.

Applicant's Address: 222 South Riverside Plaza, Chicago, IL 60606.

Star Lane Trust

[File No. 811-9795]

Summary: Applicant, a unit investment trust, seeks an order declaring that it has ceased to be an investment company. On September 30, 2005, applicant made a liquidating distribution to its shareholders, based on net asset value. Applicant incurred no expenses in connection with the liquidation.

Filing Date: The application was filed on November 18, 2005.

Applicant's Address: 11901 Olive Blvd., St. Louis, MO 63141.

Strong High-Yield Municipal Bond Fund, Inc.

[File No. 811-7930]

Summary: Applicant seeks an order declaring that it has ceased to be an investment company. On December 29, 2004, applicant's Investor Class shares were redeemed for cash based on net asset value. On December 31, 2004, applicant's SCM Class shares were redeemed in-kind based on net asset value. Strong Capital Management, Inc. (“SCM”), applicant's investment adviser, has agreed to distribute any gains arising from the subsequent sale of the securities it received in the in-kind redemption of all shares of the SCM Class to Investor Class shareholders as of the liquidation date. Expenses of approximately $926,962 incurred in connection with the liquidation were paid by Strong Financial Corporation, the parent of SCM. Certain contingent rights, claims and liabilities of applicant relating to shareholder class actions and derivative actions involving late trading and market timing allegations were transferred to a liquidating trust for the benefit of applicant's former shareholders. Upon resolution of these claims by the liquidating trust, the trustees will distribute any net proceeds to former shareholders in a manner consistent with applicable law and the fiduciary duties of the trustees. In addition, applicant's former shareholders may be entitled to certain amounts paid pursuant to regulatory settlements of market-timing and related investigations. An independent distribution consultant was retained by SCM to oversee the distribution of these amounts to shareholders.

Filing Dates: The application was filed on April 21, 2005, and amended on October 24, 2005.

Applicant's Address: 100 Heritage Reserve, Menomonee Falls, WI 53051.

The Brazilian Equity Fund, Inc.

[File No. 811-6555]

Summary: Applicant, a closed-end investment company, seeks an order declaring that it has ceased to be an investment company. On November 14, 2005, applicant made a final liquidating distribution to its shareholders, based on net asset value. Applicant had paid $66,000 in expenses in connection with the liquidation. Applicant has retained $19,463 in cash to pay certain additional accrued expenses.

Filing Dates: The application was filed on November 1, 2005, and amended on November 23, 2005.

Applicant's Address: c/o Credit Suisse Asset Management, LLC, 466 Lexington Ave., 16th Floor, New York, NY 10017.

BBH Common Settlement Fund II, Inc.

[File No. 811-10421]

Summary: Applicant seeks an order declaring that it has ceased to be an investment company. By March 28, 2005, all shareholders of applicant had voluntarily redeemed their shares, based on net asset value. Applicant incurred no expenses in connection with the liquidation.

Filing Dates: The application was filed on August 19, 2005, and amended on November 23, 2005.

Applicant's Address: 40 Water St., Boston, MA 02109.

Pictet Funds

[File No. 811-9050]

Summary: Applicant seeks an order declaring that it has ceased to be an investment company. On September 15, 2004, applicant transferred its assets to Forward Global Emerging Markets Fund, a series of Forward Funds, Inc., based on net asset value. Expenses of $66,348 incurred in connection with the reorganization were paid by Forward Management, LLC, investment adviser to the acquiring fund.

Filing Dates: The application was filed on September 12, 2005, and amended on November 18, 2005.

Applicant's Address: c/o PFPC, Inc., 760 Moore Rd., King of Prussia, PA 19406.

Bankers Life Insurance Company of New York Separate Account 1

[File No. 811-8725]

Summary: Applicant seeks an order declaring that it has ceased to be an investment company. Applicant requests deregistration based on abandonment of registration. At the time of filing, Applicant had no shareholders or contractholders.

Filing Date: The application was filed on November 22, 2005.

Applicant's Address: 65 Froehlich Farm Blvd., Woodbury, NY 11797.

For the Commission, by the Division of Investment Management, pursuant to delegated authority.
Jonathan G. Katz,
Secretary.

[FR Doc. E5-8054 Filed 12-28-05; 8:45 am]

BILLING CODE 8010-01-P